DEPARTMENT OF HOMELAND SECURITY

Coast Guard

DEPARTMENT OF TRANSPORTATION

Maritime Administration

[USCG-2004-17659]

Compass Port LLC Liquefied Natural Gas Deepwater Port License Application

AGENCY: Coast Guard, DHS, and Maritime Administration, DOT.

ACTION: Notice of application.

SUMMARY: The Coast Guard and the Maritime Administration (MARAD) give notice, as required by the Deepwater Port Act of 1974, that they have received an application for the licensing of a liquefied natural gas (LNG) deepwater port, and that the application appears to contain the required information. This notice summarizes the applicant's plans and the procedures that will be followed in considering the application.

DATES: Any public hearing held in connection with this application must be held no later than January 17, 2005, and it would be announced in the Federal Register. A decision on the application must be made within 90 days after the last public hearing held on the application.

ADDRESSES: You may submit comments identified by Coast Guard docket number USCG-2004-17659 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: If you have questions on this notice, call Lieutenant Commander Kevin Tone at 202-267-0226, or e-mail at ktone@comdt.uscg.mil. If you have questions on viewing or submitting material to the docket, call Andrea M. Jenkins, Program Manager, Docket Operations, telephone 202-366-0271.

SUPPLEMENTARY INFORMATION:

Public Participation and Request for Comments

You may submit comments concerning this application. All comments received will be posted, without change, to http://dms.dot.gov and will include any personal information you have provided. We have an agreement with the Department of Transportation (DOT) to use their Docket Management Facility. Please see DOT's “Privacy Act” paragraph below.

Submitting comments: If you submit a comment, please include your name and address, identify the docket number for this rulemaking (USCG-2004-17659), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope.

Viewing comments and documents: To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Receipt of application; determination. On March 29, 2004, the Coast Guard and MARAD received an application from Compass Port LLC (Compass Port), a wholly owned subsidiary of ConocoPhillips Company, PO Box 2197, Houston, Texas 77252-2197 for all federal authorizations required for a license to own, construct and operate a deepwater port off the coast of Alabama. The application was received on March 29, 2004. A portion of the initial submission was in a format not compatible with our software. However, by mid-April, we had received the information in a suitable format to allow us to complete our review. On April 27, 2004, we determined that the application contains all information required by the Deepwater Port Act of 1974, as amended, 33 U.S.C. 1501 et seq. (“the Act”). The application and related documentation supplied by the applicant (except for certain protected information specified in 33 U.S.C. 1513) will be made available for viewing in the public docket (see ADDRESSES).

Background. According to the Act, a deepwater port is a fixed or floating manmade structure other than a vessel, or a group of structures, located beyond State seaward boundaries and used or intended for use as a port or terminal for the transportation, storage, and further handling of oil or natural gas for transportation to any State.

A deepwater port must be licensed, and the Act provides that a license applicant submit detailed plans for its facility to the Secretary of Transportation, along with its application. The Secretary has delegated the processing of deepwater port applications to the U.S. Coast Guard and MARAD. The Act allows 21 days following receipt of the application to determine if it contains all required information. If it does, we must publish a notice of application in the Federal Register and summarize the plans. This notice is intended to meet those requirements of the Act and to provide general information about the procedure that will be followed in considering the application.

Application procedure. The application is considered on its merits. Under the Act, we must hold at least one public hearing within 240 days from the date this notice is published. A separate Federal Register notice will be published to notify interested parties of any public hearings that are held. At least one public hearing must be held in each adjacent coastal state. Pursuant to 33 U.S.C. 1508, we designate Alabama as an adjacent coastal state for this application. Other states may apply for adjacent coastal state status in accordance with 33 U.S.C. 1508 (a)(2). After the last public hearing, Federal agencies have 45 days in which to comment on the application, and approval or denial of the application must follow within 90 days of the last public hearing. Details of the application process are described in 33 U.S.C. 1504 and in 33 CFR part 148.

Summary of the application. The application plan calls for the proposed deepwater port to be located in the Mobile Outer Continental Shelf (OCS) and Mississippi Sound areas of the U.S. Gulf of Mexico, approximately 11 miles off Dauphin Island, Alabama in lease block Mobile 910. Compass Port would serve as an LNG receiving, storage, and regasification facility, located in approximately 70 feet of water depth, and will incorporate docking facilities, unloading facilities, two LNG storage tanks, regasification facilities, an offshore pipeline and support facilities.

Compass Port proposes the installation of approximately 26.8 miles of 36-inch diameter natural gas transmission pipelines on the OCS. The proposed pipeline would connect the deepwater port with existing gas distribution pipelines near Coden, Alabama.

The deepwater port facility would consist of two concrete gravity-based structures (GBS) that would contain the LNG storage tanks, LNG carrier berthing provisions, LNG unloading arms, low and high pressure pumps, vaporizers, metering, utility systems, general facilities and accommodations. The terminal would be able to receive LNG carriers up to 255,000 cubic meters cargo capacity. LNG carrier arrival frequency would be planned to match specified terminal gas delivery rates. LNG would be stored in two integral full-containment tanks, each with a capacity of 150,000 cubic meters, and a combined capacity of 300,000 cubic meters of LNG.

The regasification process would consist of lifting the LNG from the storage tanks, pumping the LNG to pipeline pressure, vaporizing across heat exchanging equipment, and sending out through the pipeline to custody transfer metering for ultimate delivery to downstream interstate pipeline capacity. No gas conditioning is required since the incoming LNG will meet the gas quality specifications of the downstream pipelines.

The deepwater port would be designed to handle a nominal capacity of 7.5 million metric tons per annum of LNG. This is equivalent to an average delivery of approximately 1.02 billion cubic feet per day (bcf/d) of pipeline quality gas.

Dated: May 12, 2004.
Howard L. Hime,
Acting Director of Standards, Marine Safety, Security, and Environmental Protection, U.S. Coast Guard.
Raymond R. Barberesi,
Director, Office of Ports and Domestic Shipping, U.S. Maritime Administration.

[FR Doc. 04-11391 Filed 5-19-04; 8:45 am]

BILLING CODE 4910-15-P